DEPARTMENT OF TRANSPORTATION

Federal Aviation Administration

Change 1 to AC 23-15A, Small Airplane Certification Compliance Program

AGENCY: Federal Aviation Administration, DOT.

ACTION: Notice of issuance of advisory circular.

SUMMARY: This notice announces the issuance of change 1 to AC 23-15A, Small Airplane Certification Compliance Program. Change 1 to AC 23-15A deletes the fourth sentence in paragraph 5n(2)(e) and deletes “fatigue properties” in fifth sentence in paragraph 5n(2)(e). This change is required since the paragraph was misinterpreted by some, to mean that no fatigue testing is required for composites. A parallel was drawn between the failure phenomenon (at a micro level) of wood and composites. Since the comparison created confusion, all mention of composites is eliminated.

DATES: Change 1 to Advisory Circular (AC) 23-15A was issued by the Manager, Small Airplane Directorate on March 15, 2005.

How to Obtain Copies: A paper copy of change 1 to AC 23-15A may be obtained by writing to the U.S. Department of Transportation, Subsequent Distribution Office, DOT Warehouse, SVC-121.23, Ardmore East Business Center, 3341Q 75th Avenue, Landover, MD 20785, telephone 301-322-5377, or by faxing your request to the warehouse at 301-386-5394. The AC will also be available on the Internet at http://www.airweb.faa.gov/AC.

Issued in Kansas City, Missouri on April 1, 2005.
David R. Showers,
Acting Manager, Small Airplane Directorate, Aircraft Certification Service.

[FR Doc. 05-7437 Filed 4-12-05; 8:45 am]

BILLING CODE 4910-13-P